Presidential Determination No. 2009-14 of January 16, 2009

Waiving the Prohibition on the Use of Economic Support Funds with Respect to Various Parties to the Rome Statute Establishing the International Criminal Court

Memorandum for the Secretary of State

Pursuant to the authority vested in me by the Constitution and laws of the United States, including section 671(b) of the Department of State, Foreign Operations, and Related Programs Appropriations Act, 2008 (Division J, Public Law 110-161), I hereby:

•

determine and report that it is important to the national interests of the United States to waive the prohibition of aforementioned section 671(a) with respect to Barbados, Bolivia, Costa Rica, Cyprus, Ecuador, Kenya, Mali, Mexico, Namibia, Niger, Paraguay, Peru, Samoa, South Africa, St. Vincent and the Grenadines, Tanzania, and Trinidad and Tobago; and

•

waive the prohibition of aforementioned section 671(a) with respect to these countries.

You are authorized and directed to report this determination to the Congress and to arrange for its publication in the Federal Register.

THE WHITE HOUSE,

Washington, January 16, 2009

[FR Doc. E9-2070

Filed 1-28-09; 8:45 am]

Billing code 4710-10-P